ENVIRONMENTAL PROTECTION AGENCY

[EPA-HQ-OPP-2023-0015; FRL-11225-01-OCSPP]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials were granted during the period April 1, 2023, to June 30, 2023, to control unforeseen pest outbreaks.

FOR FURTHER INFORMATION CONTACT: Charles Smith, Director, Registration Division (7505T), Office of Pesticide Programs, Environmental Protection Agency, 1200 Pennsylvania Ave. NW, Washington, DC 20460-0001; main telephone number: (202) 566-1030; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed at the end of the emergency exemption or denial.

B. How can I get copies of this document and other related information?

The docket for this action, identified by docket identification (ID) number EPA-HQ-OPP-2023-0015, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room and the OPP Docket is (202) 566-1744. Please review the visitor instructions and additional information about the docket available at https://www.epa.gov/dockets.

II. Background

EPA has granted or denied emergency exemptions to the following State and Federal agencies. The emergency exemptions may take the following form: Crisis, public health, quarantine, or specific. EPA has also listed denied emergency exemption requests in this notice.

Under FIFRA section 18 (7 U.S.C. 136p), EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are emergency exemptions issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, number of acres (if applicable), and the duration of the exemption. EPA also gives the Federal Register citation for the time-limited tolerance, if any.

III. Emergency Exemptions and Denials

U.S. States and Territories

Arizona

Department of Agriculture

Specific exemption: EPA authorized the co-formulated use of thiamethoxam and lambda-cyhalothrin on a maximum of 400 acres of guayule to control palestriped flea beetle. A time-limited tolerance in connection with this action was not established since the emergency use is non-food/feed. The authorization was effective May 12, 2023.

Colorado

Department of Agriculture

Denial: On May 18, 2023, EPA denied a specific exemption request for the use of metamitron to control glyphosate-resistant Palmer amaranth in sugar beets. Metamitron is an unregistered pesticide and EPA has not yet fully evaluated its potential risks. Therefore, this request was denied because the Agency was unable to make the safety findings for metamitron as mandated by FIFRA and the Federal Food, Drug, and Cosmetic Act (FFDCA).Because an unregistered pesticide was requested, a Notice of Receipt, with opportunity for public comment (required by 40 CFR 166.24), published in the Federal Register on March 10, 2023 (88 FR 15014) (FRL-10772-01-OCSPP). The public comment period closed on March 27, 2023. No negative comments were submitted, but a number of comments were received from stakeholders (e.g. producers, grower representatives, and state government entities) in favor of allowing the use.

Hawaii

Department of Agriculture

Specific exemptions: EPA authorized the use of Wolbachia pipientis DQB strain (wAlbB) contained in live adult male culex quinquefasciatus mosquitoes on a maximum of 20,000 acres of State, Federal, and private lands to control mosquitoes (Cx. quinquefasciatus). The authorization was effective April 25, 2023.

EPA authorized the co-formulated use of fluxapyroxad and pyraclostrobin on a maximum of 8,000 acres of coffee to control coffee leaf rust. Import tolerances in connection with prior registration actions are established in 40 CFR 180.666 for fluxapyroxad and 40 CFR 180.582 for pyraclostrobin and are sufficient to support this use. The authorization was effective May 18, 2023.

Michigan

Department of Agriculture and Rural Development

Specific Exemption: EPA authorized the use of acifluorfen on a maximum of 48,000 acres of sugar beets for postemergence control of invasive amaranthus (pigweed) spp., waterhemp, and palmer amaranth. Time-limited tolerances in connection with a previous action support this emergency use and are established in 40 CFR 180.383(b). The authorization was effective May 4, 2023

Minnesota

Department of Agriculture

Specific exemption: EPA authorized the use of acifluorfen on a maximum of 65,000 acres of sugar beets for postemergence control of glyphosate-resistant waterhemp. Time-limited tolerances in connection with a previous action support this emergency use and are established in 40 CFR 180.383(b). The authorization was effective May 4, 2023.

Nebraska

Department of Agriculture

Denial: On May 18, 2023, EPA denied a specific exemption request for the use of metamitron to control glyphosate-resistant Palmer amaranth in sugar beets. Metamitron is an unregistered pesticide and EPA has not yet fully evaluated its potential risks. Therefore, the request was denied because the Agency was unable to make the safety findings for metamitron as mandated by FIFRA and the Federal Food, Drug, and Cosmetic Act (FFDCA). Because an unregistered pesticide was requested, a Notice of Receipt, with opportunity for public comment (required by 40 CFR 166.24), published in the Federal Register on March 10, 2023 (88 FR 15014) (FRL-10772-01-OCSPP). The public comment period closed on March 27, 2023. No negative comments were submitted, but a number of comments were received from stakeholders (e.g., producers, grower representatives, and state government entities) in favor of allowing the use.

North Dakota

Department of Agriculture

Specific exemption: EPA authorized the use of acifluorfen on a maximum of 20,000 acres of sugar beets for postemergence control of glyphosate resistant waterhemp. Time-limited tolerances in connection with a previous action support this emergency use and are established in 40 CFR 180.383(b). The authorization was effective May 4, 2023.

Authority: 7 U.S.C. 136 et seq.

Dated: August 24, 2023.
Charles Smith,
Director, Registration Division, Office of Pesticide Programs.

[FR Doc. 2023-18879 Filed 8-30-23; 8:45 am]

BILLING CODE 6560-50-P